DEPARTMENT OF COMMERCE

International Trade Administration

[A-523-810]

Polyethylene Terephthalate Resin From the Sultanate of Oman: Rescission of Antidumping Duty Administrative Review; 2015-2017

AGENCY: Enforcement and Compliance, International Trade Administration, Department of Commerce.

SUMMARY: The Department of Commerce (the Department) is rescinding the administrative review of the antidumping duty (AD) order on polyethylene terephthalate resin (PET resin) from the Sultanate of Oman (Oman) for the period of review (POR), i.e., October 15, 2015, through April 30, 2017.

DATES: Applicable October 31, 2017.

FOR FURTHER INFORMATION CONTACT: Jonathan Hill, AD/CVD Operations, Office IV, Enforcement & Compliance, International Trade Administration, Department of Commerce, 1401 Constitution Avenue NW., Washington, DC 20230; telephone: (202) 482-3518.

SUPPLEMENTARY INFORMATION:

Background

On July 6, 2017, based on a timely request for review by OCTAL SAOC FZC (OCTAL), the Department published in the Federal Register a notice of initiation of an administrative review of the AD order on PET resin from Oman with respect to OCTAL for the POR.¹ On August 22, 2017, pursuant to 19 CFR 351.213(d)(1), OCTAL timely withdrew its request to be reviewed.²

¹ See Initiation of Antidumping and Countervailing Duty Administrative Reviews, 82 FR 31292 (July 6, 2017) (Initiation Notice).

² See Letter from OCTAL to the Secretary of Commerce “OCTAL's Withdrawal of Request for AD Review Certain Polyethylene Terephthalate (PET) Resin from the Sultanate of Oman,” dated August 22, 2017.

Rescission of Review

Pursuant to 19 CFR 351.213(d)(1), the Department will rescind an administrative review, in whole or in part, if the parties that requested the review withdraw their requests within 90 days of the publication of the notice of initiation of the requested review. OCTAL withdrew its review request by the 90-day deadline, and no other party requested an administrative review of the AD order. Therefore, we are rescinding the administrative review of the AD order on PET resin from Oman covering the period October 15, 2015, through April 30, 2017 in its entirety.

Assessment

The Department will instruct U.S. Customs and Border Protection (CBP) to assess AD duties on all appropriate entries. Because the Department is rescinding this administrative review in its entirety, the entries to which this administrative review pertains shall be assessed AD duties that are equal to the cash deposits of estimated AD duties required at the time of entry, or withdrawal from warehouse, for consumption, in accordance with 19 CFR 351.212(c)(1)(i). The Department intends to issue appropriate assessment instructions to CBP within 15 days after the publication of this notice in the Federal Register.

Notification to Importers

This notice serves as the only reminder to importers of their responsibility under 19 CFR 351.402(f)(2) to file a certificate regarding the reimbursement of antidumping duties prior to liquidation of the relevant entries during this review period. Failure to comply with this requirement could result in the presumption that reimbursement of the AD duties occurred and the subsequent assessment of doubled AD duties.

Administrative Protective Orders

This notice also serves as the only reminder to parties subject to administrative protective order (APO) of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a violation which is subject to sanction.

Notification to Interested Parties

This notice is issued and published in accordance with sections 751(a)(1) and 777(i)(1) of the Tariff Act of 1930, as amended, and 19 CFR 351.213(d)(4).

Dated: October 25, 2017.
James Maeder,
Senior Director perfoming the duties of Deputy Assistant Secretary for Antidumping and Countervailing Duty Operations.

[FR Doc. 2017-23643 Filed 10-30-17; 8:45 am]

BILLING CODE 3510-DS-P